DEPARTMENT OF THE INTERIOR

Bureau of Indian Affairs

Indian Gaming

AGENCY: Bureau of Indian Affairs, Interior.

ACTION: Notice of Approved Tribal-State Class III Gaming Compact.

SUMMARY: This notice publishes the Approval of the Tribal-State Compact between the State of California and the Fort Mojave Indian Tribe.

EFFECTIVE DATE: December 20, 2004.

FOR FURTHER INFORMATION CONTACT: George T. Skibine, Director, Office of Indian Gaming Management, Office of the Deputy Assistant Secretary-Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands. The compact allows for one gaming facility and authorizes up to 1,500 gaming devices, any banking or percentage card games, and any devices or games authorized under state law to the state lottery. Finally, the term of the compact is until December 31, 2025. The Amendment, also, authorizes annual payments to the State for geographical exclusivity. The Acting Principal Deputy Assistant Secretary-Indian Affairs, Department of the Interior, through his delegated authority, is publishing notice that the Amendment to the Tribal-State Compact between the State of California and the Fort Mojave Indian Tribe is now in effect.

Dated: December 6, 2004.
Michael D. Olsen,
Acting Principal Deputy Assistant Secretary-Indian Affairs.

[FR Doc. 04-27714 Filed 12-17-04; 8:45 am]

BILLING CODE 4310-4N-P